DEPARTMENT OF COMMERCE

International Trade Administration

[A-475-703]

Granular Polytetrafluoroethylene Resin From Italy: Extension of the Time Limit for the Preliminary Results of Antidumping Duty Administrative Review

AGENCY: Import Administration, International Trade Administration, Department of Commerce.

EFFECTIVE DATE: April 14, 2006.

FOR FURTHER INFORMATION CONTACT: Saliha Loucif or Salim Bhabhrawala, at (202) 482-1779 or (202) 482-1784, respectively; AD/CVD Operations, Office 1, Import Administration, International Trade Administration, U.S. Department of Commerce, 14th Street & Constitution Avenue, NW., Washington, DC 20230.

SUPPLEMENTARY INFORMATION:

Background

On September 28, 2005, the Department of Commerce (Department) published a notice of initiation of administrative review of the antidumping duty order on Granular Polytetrafluoroethylene Resin (PTFE) From Italy, covering the period August 1, 2004, through July 31, 2005. See Initiation of Antidumping and Countervailing Duty Administrative Reviews and Request for Revocation in Part, 70 FR 56631. The preliminary results are currently due no later than May 3, 2006.

Extension of Time Limit for Preliminary Results of Review

Section 751(a)(3)(A) of the Tariff Act of 1930, as amended (the Act), requires the Department to complete the preliminary results of an administrative review within 245 days after the last day of the anniversary month of an order/finding for which a review is requested. However, if it is not practicable to complete the review within this time period, section 751(a)(3)(A) of the Act allows the Department to extend the time limit for the preliminary results to a maximum of 365 days after the last day of the anniversary month of an order/finding for which a review is requested.

We determine that it is not practicable to complete the preliminary results of this review within the original time limit due to a number of complex issues (e.g., recent changes in Solvay Solexis, Inc. and Solvay Solexis S.p.A's corporate structure and affiliations, further-manufacturing of wet raw polymer into granular PTFE resin), which must be addressed prior to the issuance of those results. The Department requires additional time to analyze the respondent's questionnaire response and issue any necessary supplemental questionnaires.

Accordingly, the Department is extending, by 90 days, the time limit for completion of the preliminary results of this administrative review until no later than August 1, 2006. We intend to issue the final results no later than 120 days after publication of the preliminary results notice.

This notice of extension of the time limit is published in accordance with 751(a)(3)(A) of the Act.

Dated: April 10, 2006.
Stephen J. Claeys,
Deputy Assistant Secretary for Import Administration.

[FR Doc. E6-5601 Filed 4-13-06; 8:45 am]

BILLING CODE 3510-DS-P